DEPARTMENT OF THE INTERIOR

Bureau of Land Management

[UTU 6443, UTU 012532, and UTU 0146037]

Opening of National Forest System Lands; Utah

AGENCY: Bureau of Land Management, Interior.

ACTION: Notice of Realty Action.

SUMMARY: Public Land Order No. 7708 partially revoked 3 Public Land Orders and revoked 1 Public Land Order in its entirety. This order opens part of those previously withdrawn lands to mining and opens the remainder to such forms of disposition as may by law be made of National Forest System lands and to mining.

DATES: Effective Date: January 20, 2009.

FOR FURTHER INFORMATION CONTACT: Rhonda Flynn, BLM Utah State Office, 440 West 200 South, Suite 500, Salt Lake City, Utah 84101-1345, 801-539-4132.

SUPPLEMENTARY INFORMATION: 1. Public Land Order No. 7708 (73 FR 31880 (2008)) revoked Public Land Order No. 1391 (22 FR 1003 (1957)) insofar as it affected the lands described below. The United States Forest Service has decided that those previously withdrawn lands, described below, can be opened to such forms of disposition as may by law be made of National Forest System lands, including location and entry under the United States mining laws:

Uinta National Forest

Uinta Special Meridian

T. 1 N., R. 11 W.,

Sec. 29, SW¼SW¼SE¼ and SE¼SE¼SW¼;

Sec. 32, NW¼NW¼NE¼, NE¼NE¼NW¼, W½NE¼NW¼, and E½NW¼NW¼.

T. 1 S., R. 11 W.,

Sec. 23, SW¼SW¼SE¼ and SE¼SE¼SW¼;

Sec. 26, W½NW¼NE¼ and E½NE¼NW¼.

The areas described aggregate 140 acres in Wasatch County.

2. Public Land Order No. 7708 (73 FR 31880 (2008)) revoked Public Land Order Nos. 4060 (31 FR 10033 (1966)), 4567 (34 FR 1139 (1969)), and 4664 (34 FR 8915 (1969)) insofar as they affected the lands described below. The United States Forest Service has decided that those previously withdrawn lands, described below, can be opened to location and entry under the United States mining laws:

Uinta National Forest

Uinta Special Meridian

T. 3 S., R. 12 W.,

Sec. 23, SE¼SE¼SW¼, S½SW¼SE¼, and SW¼SE¼SE¼;

Sec. 26, NE¼NE¼NW¼, N½NW¼NE¼, and NW¼NE¼NE¼.

Salt Lake Meridian

T. 4 S., R. 2 E.,

Sec. 1, all lands West of the 7,600 foot elevation contour in lots 1 and 8 (lands inside the Lone Peak Wilderness).

T. 10 S., R. 2 E.,

Sec. 3, SE¼SE¼NW¼, W½SW¼NE¼, and NE¼SW¼NE¼.

T. 12 S., R. 2 E.,

Sec. 20, NE¼SE¼NE¼, W½SE¼NE¼, and SW¼NE¼.

T. 7 S., R. 4 E.,

Sec. 24, E½NW¼SE¼, SW¼NW¼SE¼, and NW¼NE¼SE¼.

T. 8 S., R. 5 E.,

Sec. 11, N½NW¼NE¼ and SW¼NW¼NE¼.

The areas described aggregate 287 acres in Utah and Wasatch Counties.

3. At 10 a.m. on January 20, 2009, the lands described in Paragraph 1 shall be opened to such forms of disposition as may by law be made of National Forest System lands, including location and entry under the United States mining laws and the lands described in Paragraph 2 shall be opened to location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Authority: 43 CFR 2091.6.

Dated: December 11, 2008.
Selma Sierra,
State Director.

[FR Doc. E8-29891 Filed 12-18-08; 8:45 am]

BILLING CODE 4310-11-P